INTERNATIONAL TRADE COMMISSION

[USITC SE-02-002]

Sunshine Act Meeting

Agency Holding the Meeting: United States International Trade Commission.

Time and Date: January 22, 2002 at 2 p.m.

Place: Room 101, 500 E Street SW., Washington, DC 20436, Telephone: (202) 205-2000.

Status: Open to the public.

Matters to be Considered: 1. Agenda for future meeting: None.

2. Minutes.

3. Ratification List.

4. Inv. Nos. 701-TA-409-412 and 731-TA-909 (Final) (Low Enriched Uranium from France, Germany, the Netherlands, and the United Kingdom)—briefing and vote. (The Commission is currently scheduled to transmit its determination and Commissioners' opinions to the Secretary of Commerce on January 28, 2002.)

5. Outstanding action jackets: None.

In accordance with Commission policy, subject matter listed above, not disposed of at the scheduled meeting, may be carried over to the agenda of the following meeting. Earlier announcement of this meeting was not possible.

Issued: January 10, 2002.
By order of the Commission.
Marilyn R. Abbott,
Acting Secretary.

[FR Doc. 02-1108 Filed 1-11-02; 1:19 pm]

BILLING CODE 7020-02-P